DEPARTMENT OF HEALTH AND HUMAN SERVICES

National Institutes of Health

Center for Scientific Review; Amended Notice of Meeting

Notice is hereby given of a change in the meeting of the Center for Scientific Review Special Emphasis Panel, July 21, 2014, 5:00 p.m. to July 23, 2014, 12:00 p.m., Argonne Guest House, 9700 S Cass Ave., Lemont, IL 60439 which was published in the Federal Register on June 20, 2014, 79 FR 35364.

The meeting will be held on August 11, 2014 to August 13, 2014. The meeting location and time remain the same. The meeting is closed to the public.

Dated: July 18, 2014.
Carolyn A. Baum,
Program Analyst, Office of Federal Advisory Committee Policy.

[FR Doc. 2014-17388 Filed 7-23-14; 8:45 am]

BILLING CODE 4140-01-P